DEPARTMENT OF LABOR

Office of the Secretary

Secretary's Order 4-2002; Office of Small Business Programs

1. Purpose

To define the authorities and responsibilities of the Office of Small Business Programs (OSBP) in the Department of Labor (DOL or Department).

2. Authority and Directives Affected

a. Authorities

This Order is issued pursuant to 29 U.S.C. 551 et seq.; 5 U.S.C. 301; the Small Business Act [15 U.S.C. 631 et seq.], including section 15(k) [15 U.S.C. 944(k)]; the Historically Underutilized Business Zone Act of 1997 [15 U.S.C. 631 note]; the Regulatory Flexibility Act [see 5 U.S.C. 601 et seq.]; the Small Business Regulatory Enforcement Fairness Act [see 5 U.S.C. 601 et seq. and 15 U.S.C. 657]; Executive Order 12432, “Minority Business Enterprise Development” (EO 12432) (July 14, 1983); Executive Order 12928, “Promoting Procurement with Small Businesses Owned and Controlled by Socially and Economically Disadvantaged Individuals, Historically Black Colleges and Universities [HBCUs], and Minority Institutions' (EO 12928) (September 16, 1994); Executive Order 13125, as amended by Executive Order 13216, “Increasing Opportunity and Improving Quality of Life of Asian Americans and Pacific Islanders' (EO 13125) (June 7, 1999); Executive Order 13230, “President's Advisory Commission on Educational Excellence for Hispanic Americans” (EO 13230) (October 12, 2001); Executive Order 13256, “President's Board of Advisors on Historically Black Colleges and Universities” (EO 13256) (February 12, 2002); and Executive Order 13270, “Tribal Colleges and Universities.”

b. Directives Affected

(1) This Order does not affect the authorities and responsibilities assigned by any other Secretary's Order, unless otherwise expressly so provided in this or another Order.

(2) Secretary's Order 2-97 is cancelled.

(3) This Order does not affect the procurement and contracting authority of the Assistant Secretary for Administration and Management. (see Secretary's Order 4-76.)

3. Background

This Secretary's Order and concurrently issued Secretary's Order 2-2002 (Assistant Secretary for Policy) substantially consolidate and restructure the Department's compliance assistance programs and enhance its outreach efforts. Specifically, this Order reflects the transfer, to the Assistant Secretary for Policy by Secretary's Order 2-2002, of OSBP's prior responsibilities with respect to Departmental compliance assistance efforts for certain constituencies, oversight of the Department's advisory committees, and certain responsibilities under the Small Business Regulatory Enforcement Fairness Act (SBREFA).

OSBP retains its function as the Department's ombudsman for small businesses under SBREFA, as well as its responsibilities for the Department's relationship with minority communities and populations, businesses, and academic institutions, under related executive orders, such as Executive Orders 12432, 12928, 13125, 13216, 13230, 13256, and 13270. Under these directives, the Department promotes efforts to increase the involvement of minority businesses, Historically Black Colleges and Universities, Tribal Colleges and Universities, Asian American and Pacific Islanders, and Hispanic Americans in the Department's programs, including procurement; develops related Departmental policy and guidelines; establishes program plans; and monitors and reports on results achieved.

4. Delegation of Authority and Assignment of Responsibilities

a. The Director, Office of Small Business Programs is responsible for:

(1) Ensuring that the Department fulfills its responsibility to provide procurement opportunities for small business concerns, small disadvantaged businesses, women-owned small businesses, Historically Underutilized Business Zone (HUBZone) businesses, and businesses owned by service-disabled veterans, including:

a. Establishing DOL and agency goals, in cooperation with agencies and in accordance with 15 U.S.C. 644, for the participation by such entities in appropriate procurement actions.

b. Consulting with the Small Business Administration (SBA) as necessary and preparing the annual plan and annual report from the Secretary to the SBA Administrator on participation of small entities in procurement actions by the Department.

c. Conducting outreach programs, seminars, and similar initiatives for such entities and acting as the Department's liaison to such entities for program procurement activities.

d. Providing training regarding utilization of small and disadvantaged businesses to DOL employees whose duties and functions relate to procurement.

e. Ensuring the Department's compliance with the procurement and property disposal requirements of section 223(a) of the Small Business Act (15 U.S.C. 637(b)).

f. Acting as the Department's Director of the Office of Small and Disadvantaged Business Utilization.

(2) Ensuring that small business specialists are appointed throughout the Department, and are trained in performing their duties.

(3) Publishing information materials required by sections 8 and 15 of the Small Business Act.

(4) Acting as the Department's ombudsman to small businesses, including responding to inquiries or complaints arising under SBREFA.

(5) Serving, in coordination with OASP, as the Department's liaison with the SBA's Small Business and Agriculture Regulatory Enforcement Ombudsman and providing the Department's response and other input related to the SBA Ombudsman's Regulatory Fairness Recommendations Report to Congress.

(6) Acting as the Department's liaison to minority businesses and institutions; planning, coordinating, monitoring, evaluating, and reporting on the Department's related activities under Executive Orders 12432 and 12928, including efforts to increase the involvement of minority businesses in the Department's programs and plans; coordination of related memoranda of understanding; and service as the Department's liaison to the Department of Commerce's Minority Business Development Agency.

(7) Acting as the Department's liaison to Tribal Colleges and Universities; planning, coordinating, monitoring, evaluating, and reporting on the Department's related activities under EO 13270, including efforts to increase the involvement of Tribal Colleges and Universities in the Department's programs and plans; coordination of related memoranda of understanding; and service as the Department's liaison to the President's Board of Advisors on Tribal Colleges and Universities and the White House Initiative on Tribal Colleges and Universities.

(8) Acting as the Department's liaison to Asian Americans and Pacific Islanders; planning, coordinating, monitoring, evaluating, and reporting on the Department's activities under EO 13125, as amended by EO 13216, including efforts to increase the involvement of Asian Americans and Pacific Islanders in the Department's programs and plans; coordination of related memoranda of understanding; and service as the Department's liaison to the President's Advisory Commission on Asian Americans and Pacific Islanders and the White House Initiative on Asian Americans and Pacific Islanders.

(9) Acting as the Department's liaison to Hispanic Americans; planning, coordinating, monitoring, evaluating, and reporting on the Department's activities under EO 13230, including efforts to increase the involvement of Hispanic Americans in the Department's programs and plans; coordination of related memoranda of understanding; and service as the Department's liaison to the President's Advisory Commission on Educational Excellence for Hispanic Americans and the White House Initiative on Educational Excellence for Hispanic Americans.

(10) Acting as the Department's liaison to HBCUs; planning, coordinating, monitoring, evaluating, and reporting on the Department's related activities under Executive Orders 12928 and 13256, including efforts to increase the participation of HBCUs in the Department's programs and plans; coordination of related memoranda of understanding; and service as the Department's liaison to the President's Board of Advisors on HBCUs and the White House Initiative on HBCUs.

(11) Coordinating, as necessary, with the Office of the Assistant Secretary for Policy on compliance assistance initiatives.

(12) Coordinating, as necessary, with the Assistant Secretary for Administration and Management on procurement actions related to OSBP's responsibilities under this Order and on consolidation of the Department's Annual Acquisition Plan and Procurement Forecast (AAP-PF).

(13) Coordinating and consulting, as appropriate, with other DOL agencies in fulfilling the above responsibilities.

(14) Performing any additional or similar duties which may be assigned by law or by the Secretary.

b. The Assistant Secretary for Administration and Management is delegated authority and assigned responsibility for:

(1) Ensuring that any transfer of resources affecting this Order is fully consistent with the established requirements of the Department and that consultation and negotiation, as appropriate, with representatives of any employees affected by this exchange of responsibilities are conducted.

(2) Ensuring that appropriate administrative and management support is furnished, as required, for the efficient and effective operation of these programs.

(3) Coordinating, as necessary, with the Director of the Office of Small Business Programs on procurement actions related to their responsibilities under this Order and on consolidation of the Department's AAP-PF.

c. The Solicitor of Labor is responsible for providing legal advice and assistance to all Department of Labor officials relating to implementation and administration of all aspects of this Order.

d. DOL Agency Heads are responsible for:

(1) Developing Agency annual acquisition plans, and annual small and disadvantaged business utilization plans, consistent with Agency responsibilities.

(2) Developing Agency minority institution activity plans, consistent with Agency responsibilities, to promote the objectives of Executive Orders 12432, 12928, 13125, 13216, 13230, 13256, and 13270 or similar laws.

(3) Conferring with Agency program and procurement officials to establish Agency monetary procurement goals, minority institution commitments, minority business development plans, and ensuring that Agency program and procurement officials cooperate to achieve these objectives.

(4) Ensuring that reports concerning degree of achievement of the above objectives are accurate and submitted in a timely manner.

5. Reservations of Authority and Responsibility

a. The submission of reports and recommendations to the President and the Congress concerning the administration of statutory or administrative provisions is reserved to the Secretary, as is the submission of the Department's annual plan and annual report to the SBA on participation by small business concerns, small disadvantaged businesses, women-owned small businesses, HUBZone businesses, and businesses owned by service-disabled veterans, in the Department's procurement actions.

b. This Secretary's Order does not affect the authorities or responsibilities of the Office of Inspector General under the Inspector General Act of 1978, as amended, or under Secretary's Order 2-90 (January 31, 1990).

6. Transfer of Authority

The Director of the Office of Small Business Programs may transfer the authority and responsibility set forth in paragraphs 4a(6)-(10) to other agency heads, as appropriate.

7. Effective Date

This Order is effective immediately.

Dated: October 10, 2002.
Elaine L. Chao,
Secretary of Labor.

[FR Doc. 02-26738 Filed 10-21-02; 8:45 am]

BILLING CODE 4510-23-P